DEPARTMENT OF COMMERCE

Census Bureau

Survey of Program Dynamics—2001

ACTION: Proposed collection; comment request.

SUMMARY: The Department of Commerce, as part of its continuing effort to reduce paperwork and respondent burden, invites the general public and other federal agencies to take this opportunity to comment on proposed or continuing information collections, as required by the Paperwork Reduction Act of 1995, Public Law 104-13 (44 U.S.C. 3506(c)(2)(A)).

DATES: Written comments must be submitted on or before November 6, 2000

ADDRESSES: Direct all written comments to Madeleine Clayton, Departmental Forms Clearance Officer, Department of Commerce, Room 6086, 14th and Constitution Avenue, NW, Washington, DC 20230 (or via the Internet at MClayton@doc.gov).

FOR FURTHER INFORMATION CONTACT: Requests for additional information or copies of the information collection instrument and instructions should be directed to Michael McMahon, Census Bureau, FOB 3, Room 3375, Washington, DC 20233-0001, (301) 457-1616.

SUPPLEMENTARY INFORMATION:

I. Abstract

The SPD is a household-based survey designed as a data collection vehicle that can provide the basis for an overall evaluation of how well welfare reforms are achieving the aims of the Administration and the Congress and meeting the needs of the American people.

The SPD is a large, longitudinal, nationally-representative study that measures participation in welfare programs, including both programs that are being reformed and those that remain unchanged. The SPD measures other important social, economic, demographic, and family changes that will allow analysis of the effectiveness of the welfare reforms.

With the August 22, 1996, signing of the Personal Responsibility and Work Opportunity Reconciliation Act of 1996 (Pub L. 104-193), the Census Bureau is required to conduct the SPD, using as the sample the households from the 1992 and 1993 Survey of Income and Program Participation (SIPP). The information obtained will be used to evaluate the impact of this law on a sample of previous welfare recipients and future recipients of assistance under new state programs funded under this law as well as assess the impact on other low-income families. Issues of particular attention include welfare dependency, the length of welfare spells, the causes of repeat welfare spells, educational enrollment and work training, health care utilization, out-of-wedlock births, and the status of children.

The 2001 SPD is the fourth year of data collection using the same core questions. The inclusion of an adolescent self-administered questionnaire is also planned. In the 2000 SPD, a one-time topical module collected the residential histories of children. The 1999 SPD collected core data plus extended measures of child well-being. The 1998 SPD included an adolescent self-administered questionnaire similar to the one planned for 2001. A bridge survey using the Current Population Survey March questionnaire was conducted in the spring of 1997 to provide a link to baseline data for the period prior to the implementation of the welfare reform activities.

II. Method of Collection

The SPD is a longitudinal study of welfare-related activities with the sample respondents originally selected from 1992 and 1993 SIPP panels. Interviews were conducted in 1997, 1998, 1999, and 2000. Subsequent data collections are scheduled for 2001 and 2002. Data are collected using a computer-assisted interviewing (CAI) instrument from a nationally representative sample of the noninstitutionalized resident population living in the United States for all individuals, families, and households. Individuals who are at least 15 years of age at the time of the interview will be eligible to be in the survey. A separate paper interview will be obtained for each adolescent member, ages 12+, of the sample households. The adolescent interview is administered either by audio cassette, while the adolescent records the answers in a paper answer booklet or by a field representative asking the questions using a paper questionnaire.

A small sample of households is scheduled for reinterview. The reinterview process assures that all households were properly contacted and that the data are valid.

III. Data

OMB Number: 0607-0838.

Form Number: CAI Automated Instrument.

Type of Review: Regular.

Affected Public: Individuals or Households.

Estimated Number of Respondents: 52,000 household respondents; 9,600 adolescent respondents; 1,500 reinterview respondents.

Estimated Time Per Response: 30 minutes per respondent; 30 minutes per adolescent, aged 12+ years; 10 minutes per reinterview.

Estimated Total Annual Burden Hours: 31,050.

Estimated Total Annual Cost: No costs to the respondents other than their time.

Respondent's Obligation: Voluntary.

Legal Authority: Title 13, United States Code, Section 182; and Title 42, United States Code, Section 614 (Public Law 104-193, Section 414, signed August 22, 1996).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice are summarized or included in the request for OMB approval of this information collection; they also will become a matter of public record.

Dated: August 28, 2000.
Madeleine Clayton,
Departmental Forms Clearance Officer, Office of the Chief Information Officer.

[FR Doc. 00-22595 Filed 9-1-00; 8:45 am]

BILLING CODE 3510-07-P